FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants:

Alton Container, Inc., 3020 Old Ranch Parkway, Suite 300, Seal Beach, CA 90740. Officers: Sam Yong Ryu, Vice President (Qualifying Individual), Eunice H. Kim, CEO.

Kingsmart Express Container, Inc., 219 S. Chandler Avenue, #E, Monterey Park, CA 91754. Officers: Zheng (Robert) Wang, Secretary (Qualifying Individual), Wan-Lan Zhang, CFO.

Amerikan Fracht Inc. 368 Sycamore Grove Street, Simi Valley, CA 93065. Officers: Alice Lin, Corporate Secretary (Qualifying Individual), Lan Ju, Director.

Concordia Shipping Line Inc., 168 SE 1st Street, Miami, FL 33131. Officer: Vernon St. Anthony Scott, President (Qualifying Individual).

Fargo Transportation Service, 9660 Flair Drive, Suite 226, El Monte, CA 91731. Officers: Lucia Y. Babb, Corporate Secretary (Qualifying Individual).

Logistics Pan-America Corp., 130-27 59th Avenue, 2nd FL, Flushing, NY 11355. Officers: Yachuan Gu, President (Qualifying Individual), Tian Shen, Vice President.

Port Asia-USA Cargo Management LLC, 1231 East 230th Street, Carson, CA 90745. Officer: Jesus C. Domingo, President (Qualifying Individual).

Non-Vessel Operating Common Carrier and Ocean Freight Forwarder Transportation Intermediary Applicant:

Ship Smart, Inc., 640 Dowd Avenue, Elizabeth, NJ 07201. Officers: Mark Smolec, Owner (Qualifying Individual), Bogdan Sokolowski, President.

Ocean Freight Forwarder—Ocean Transportation Intermediary Applicants:

Auto City Center Inc., 15846 W Warren Avenue, Detroit, MI 48228. Officers: Nachaat Mazeh, Manager (Qualifying Individual), Ghassan H. Tarraf, President.

Capital Exports, Inc., 21164 Twinridge Square, Sterling, VA 20164. Officer: Said Masrour, President (Qualifying Individual).

Dated: March 5, 2004.
Bryant L. VanBrakle,
Secretary.

[FR Doc. 04-5388 Filed 3-9-04; 8:45 am]

BILLING CODE 6730-01-P